DEPARTMENT OF THE INTERIOR

Bureau of Indian Affairs

Office of the Special Trustee for American Indians

Working Group on Land Consolidation Program

AGENCIES: Bureau of Indian Affairs, Interior; Office of the Special Trustee for American Indians, Interior.

ACTION: Notice.

SUMMARY: On April 22, 2003, the Bureau of Indian Affairs (BIA) and the Office of the Special Trustee for American Indians (OST) in the Department of the Interior filed a Federal Register notice (68 FR 19845) calling for nominations of Tribal officials to participate in a working group to address the rapidly increasing fractionation of ownership of Indian land. This fractionation is due to the system of allotments established by the General Allotment Act of 1887. The President's fiscal year (FY) 2004 Budget incorporates a request for a significant increase for the Indian Land Consolidation program aimed at reducing the number of individual owners in parcels of Indian lands allotted to individuals. The Department has been actively working with tribal groups on the issue and will therefore not be convening a new working group.

DATES: Effective on the date of publication of this notice in the Federal Register.

FOR FURTHER INFORMATION CONTACT: ATTN: Terry Virden, Deputy Commissioner for Indian Affairs, Bureau of Indian Affairs, Room 4160, 1849 C Street, NW., Washington, DC 20240, or ATTN: Donna Erwin, Acting Special Trustee, Office of Special Trustee for American Indians, Room 5140, 1849 C Street, NW., Washington, DC 20240.

SUPPLEMENTARY INFORMATION: The allotment of Indian lands—dividing tribal lands into small parcels and allocating those parcels to individual Indians—became federal policy in 1887 with the enactment of the General Allotment Act. By the 1930s, however, it was widely accepted that the policy was a failure and, in 1934 it was ended with passage of the first Indian Reorganization Act. Interests in these alloted lands started to “fractionate” as interests divided among the heirs of the original allottees, expanding rapidly with every generation.

Today, there are approximately four million owner interests in the 10 million acres of individually-owned trust lands, and these four million interests could expand to 11 million interests by 2030. Moreover, there are an estimated 1.4 million fractional interests of 2 percent or less involving 58,000 tracks of individually-owed trust and restricted lands. There are not single pieces of property with ownership interests that are less than 0.000002 percent of the whole interest.

Addressing this issue is critical to improving the management of trust assets. The Department of the Interior, the Department in which the BIA and OST are located, is bound by its trust obligations to maintain ownership records, and in some cases to collect and distribute income for each Indian owner's interest, regardless of size. Reduction of fractional interests will increase the likelihood of more productive economic use of the land, reduce record keeping and large numbers of small dollar financial transactions, and decrease the number of interests subject to probate.

Starting in 2004, the BIA will oversee the National Indian Land Consolidation Program. The Department has established an internal working group that has actively met with tribal organizations, such as the Indian Land Working Group and the National Congress of American Indians, to discuss fractionation, the problems associated with fractionation, and possible solutions to problems. Since the Department is actively working with tribal organizations, the Department will not be convening another fractionation working group.

Dated: September 10, 2003.
Aurene M. Martin,
Acting Principal Deputy Assistant Secretary—Indian Affairs.

[FR Doc. 03-25232 Filed 10-03-03; 8:45 am]

BILLING CODE 4310-02-M